DEPARTMENT OF AGRICULTURE

Animal and Plant Health Inspection Service

[Docket No. APHIS-2020-0070]

Classify the State of Sonora, Mexico, as Level I for Brucellosis

AGENCY: Animal and Plant Health Inspection Service, USDA.

ACTION: Notice.

SUMMARY: We are advising the public of our decision to classify the State of Sonora, Mexico as Level I for brucellosis. This recognition is based on an evaluation we prepared in connection with this action, which we made available to the public for review and comment through a previous notice.

DATES: Imports under this classification may be authorized beginning March 7, 2022.

FOR FURTHER INFORMATION CONTACT: Dr. Kelly Rhodes, Senior Staff Veterinarian, Regionalization Evaluation Services, Strategy and Policy, VS, APHIS, USDA, 4700 River Road, Unit 38, Riverdale, MD 20737-1231; (301) 851-3315; Ask.Regionalization@usda.gov.

SUPPLEMENTARY INFORMATION: The regulations in 9 CFR part 93, subpart D (§§ 93.400 through 93.442, referred to below as part 93 or the subpart), contain requirements for the importation of ruminants into the United States to address the risk of introducing or disseminating diseases of livestock within the United States. Part 93 currently contains provisions that address the risk that imported bovines (cattle or bison) may introduce or disseminate bovine tuberculosis or brucellosis within the United States. Within part 93, § 93.440 contains the requirements for classification of foreign regions for brucellosis and § 93.441 contains the process for requesting regional classification for brucellosis. In accordance with § 93.440(d), the Animal and Plant Health Inspection Service (APHIS) maintains lists of all Level I, Level II, and Level III regions for brucellosis and adds regions classified in accordance with § 93.441 to these lists.

Paragraph (a) of § 93.441 provides that a representative of a national government with authority to make such a request may request that APHIS classify a region for brucellosis. Within the same section, paragraph (b) provides that if, after reviewing and evaluating the request for brucellosis classification, APHIS believes the region can be accurately classified, APHIS will publish a notice in the Federal Register with the proposed classification and make its evaluation available for public comment. Following the close of the comment period, APHIS will review all comments received and will make a final determination regarding the request that will be detailed in another document published in the Federal Register.

In accordance with that process, we published a notice ¹ in the Federal Register on February 24, 2021 (86 FR 11219-11220, Docket No. APHIS-2020-0070), in which we announced the availability, for review and comment, of an evaluation of the State of Sonora, Mexico for brucellosis classification, as well as an environmental assessment (EA). The notice proposed to classify Sonora as Level I for brucellosis.

¹ To view the notice, evaluation, environmental assessment, and comments we received go to www.regulations.gov and enter APHIS-2020-0070 in the Search field.

We solicited comments on the notice for 60 days ending April 26, 2021. We received two comments by that date. The comments were from private citizens.

One commenter stated that it was difficult to know what the different classification levels for disease status meant and asked that we explain what they meant. The other commenter asked why we wanted to classify Sonora as Level I for brucellosis and what evidence we had to support that decision.

As we explained in the notice, § 93.440 of the regulations contains the requirements for classification of foreign regions for brucellosis and § 93.441 contains the process for requesting regional classification for brucellosis. As part of the process for requesting regional classification, the national government of the region must submit an application to APHIS that defines the boundaries of the region, specifies the prevalence level for brucellosis within the region, and demonstrate that, among other things:

• There is effective veterinary control and oversight within the region;

• That brucellosis is a notifiable disease within the region;

• The region has a program for brucellosis in place that includes epidemiological investigations, management of affected herds, diagnostic testing, and disease surveillance.

When the application is complete, APHIS will review and evaluate the request for classification. If, based on that evaluation, we believe the region can be accurately classified for brucellosis, we will publish a notice in the Federal Register proposing to classify the region according to § 93.440, and make available to the public the information upon which this proposed classification is based.

The specific requirements for classification as a Level I region for brucellosis are set out in paragraph (a) of § 93.440. To receive Level I classification for brucellosis, a region must meet APHIS requirements for brucellosis classification in accordance with § 93.441, and also have a prevalence of brucellosis in their domestic bovine herds of less than 0.001 percent over at least the previous 2 years (24 consecutive months).

In the evaluation titled “APHIS Evaluation of the State of Sonora, Mexico for Bovine Brucellosis (Brucella abortus) Classification” (September 2017) that accompanied our February 24, 2021 notice,² we set forth the results of our evaluation of the State of Sonora, Mexico for bovine brucellosis. APHIS concluded that Sonora fully meets the APHIS requirements for classification and that brucellosis has not been confirmed in a bovine animal in Sonora since 2009, qualifying Sonora for Level I classification for brucellosis.

² See footnote 1.

One commenter asked about the significance of classifying Sonora as a Level I region compared to the impact of Level II or Level III classifications, and how the classification as Level I, II, and III would impact Sonora economically.

As we explained above, the requirements for classification as a region for brucellosis are set out in § 93.440 of the regulations. To receive Level I or II classification for brucellosis, a region must meet APHIS requirements for brucellosis classification in accordance with § 93.441. Level I regions must also have a prevalence of brucellosis in their domestic bovine herds of less than 0.001 percent over at least the previous 2 years (24 consecutive months). Level II regions must have a prevalence of brucellosis in their domestic bovine herds equal to or greater than 0.001 percent, but less than 0.01 percent over at least the previous 2 years (24 consecutive months). Level III regions do not meet APHIS requirements for brucellosis classification in accordance with § 93.441, have a prevalence of brucellosis in their domestic bovine herds equal to or greater than 0.01 percent, or are unassessed by APHIS with regard to brucellosis prevalence.

The requirements for importation of ruminants from any part of the world with respect to brucellosis are linked to the classification levels, as described in § 93.442 of the regulations. The regulations provide that steers and spayed heifers may be imported into the United States from anywhere in the world without additional restrictions. Sexually intact cattle from Level I regions may also be imported into the United States without additional restrictions. However, sexually intact cattle from Level II and Level III regions are subject to restrictions, such as originating in accredited herds, or whole herd and individual testing requirements.

Consequently, classification as Level I will effectively exempt sexually intact cattle from Sonora from brucellosis testing prior to export, saving Sonoran producers the cost of testing or the cost of castrating bulls and spaying heifers to avoid the testing requirement. Under Level II or III, producers would still bear those costs.

One commenter asked if brucellosis posed an immediate threat to the people of the United States.

As we explained in the evaluation that accompanied the initial notice, bovine brucellosis is caused by the bacterium Brucella abortus. Infection with B. abortus causes abortions and stillbirths in cattle. B. abortus also affects other species including bison, buffalo, and elk. In addition, B. abortus is a human pathogen that can cause serious disease. Human cases of brucellosis in the United States are rare, can be treated with antibiotics, and can be prevented with appropriate food safety measures.

One commenter asked what efforts will be taken to stop the spread of brucellosis, and if the export of beef would still be allowed.

In the event that the prevalence of brucellosis in Sonora rises to above 0.001 percent, APHIS will take action to reclassify the region as Level II or III, as appropriate, and impose the corresponding restrictions on imported bovines. Reclassification would not result in changes to the requirements for exporting beef to the United States from Sonora.

One commenter asked what effect brucellosis would have on the production of food in the area and how this could hurt the citizens.

As we explained in the evaluation that accompanied the initial notice, Sonora has averaged 28 cases of brucellosis in humans annually since 2002, primarily due to B. abortus. Public health officials in Sonora attribute the majority of cases to exposure through soft cheeses and/or raw milk from other Mexican States. Animal and public health officials in Sonora work closely to monitor the incidence of brucellosis in humans and investigate any potential connection to Sonoran livestock. For example, a case rate spike in humans in 2010 led to detection of an infected goat herd that produced cheese and milk for local consumption.

Therefore, in accordance with the regulations in §§ 93.440 and 93.441, we are announcing our decision to classify the State of Sonora, Mexico as Level I for brucellosis, and to add the State of Sonora to the web-based list of Level I regions for brucellosis. Bovines from the State of Sonora may be imported under the conditions listed in §§ 93.439 and 93.442 for the appropriate classification level.

National Environmental Policy Act

On December 27, 2022, we published in the Federal Register a notice (86 FR 73238-73239, Docket No. APHIS-2020-0071) announcing that we were classifying Canada as Level I for brucellosis and bovine tuberculosis. That final notice was accompanied by a final environmental assessment and finding of no significant impact (FONSI). The final environmental assessment and FONSI also evaluated the possible environmental impacts associated with classifying Sonora as Level I for brucellosis. Accordingly, we direct the public to https://www.regulations.gov/docket/APHIS-2020-0071 to view those documents, and are not republishing them for this action.

Congressional Review Act

Pursuant to the Congressional Review Act (5 U.S.C. 801 et seq.), the Office of Information and Regulatory Affairs designated this action as not a major rule, as defined by 5 U.S.C. 804(2).

Authority: 7 U.S.C. 1622 and 8301-8317; 21 U.S.C. 136 and 136a; 31 U.S.C. 9701; 7 CFR 2.22, 2.80, and 371.4.

Done in Washington, DC, this 1st day of March 2022.
Anthony Shea,
Administrator, Animal and Plant Health Inspection Service.

[FR Doc. 2022-04720 Filed 3-4-22; 8:45 am]

BILLING CODE 3410-34-P